DEPARTMENT OF THE INTERIOR

Bureau of Indian Affairs

[245A2100DD/AAKC001030/A0A501010.999900]

Advisory Board of Exceptional Children

AGENCY: Bureau of Indian Affairs, Interior.

ACTION: Notice of meeting.

SUMMARY: The Bureau of Indian Education (BIE) is announcing that the Advisory Board for Exceptional Children will hold a three day in-person and online meeting. The purpose of the meeting is to meet the mandates of the Individuals with Disabilities Education Act of 2004 (IDEA) for Indian children with disabilities.

DATES: The BIE Advisory Board meeting will be held Wednesday, September 25, 2024, from 8 a.m. to 4:30 p.m. EDT, and Thursday, September 26, 2024, from 8 a.m. to 4 p.m. EDT, and Friday, September 27, 2024, from 8 a.m. to 4:30 p.m. EDT. This will include a 1.5-hour school tour on Wednesday, September 25, 2024, from 9 a.m. to 10:30 a.m. EDT, and dialogue with Cherokee Central School staff on Wednesday, September 25, 2024, from 12 p.m. to 1:30 p.m. EDT.

ADDRESSES: This onsite meeting location will be at Cherokee Central Schools Central Office, 86 Elk Crossing Lane, Cherokee, NC 28719. To attend virtually, participants may use this link to register: https://www.zoomgov.com/meeting/register/vJItcOmhpj8vHS5iX6Kn98Xf9yubIQbJPnA. Attendees register once and can attend one or both meeting events. After registering, you will receive a confirmation email containing information about joining the meeting.

Comments: Public comments can be emailed to the DFO at Jennifer.davis@bie.edu; or faxed to (602) 265-0293, Attention: Jennifer Davis, DFO; or mailed or hand delivered to the Bureau of Indian Education, Attention: Jennifer Davis, DFO, 2600 N. Central Ave., 12th Floor, Suite 250, Phoenix, AZ 85004.

FOR FURTHER INFORMATION CONTACT: Jennifer Davis, Designated Federal Officer, Bureau of Indian Education, 2600 N. Central Ave., 12th Floor, Suite 250, Phoenix, AZ 85004, Jennifer.Davis@bie.edu, or mobile phone (202) 860-7845.

SUPPLEMENTARY INFORMATION: In accordance with the Federal Advisory Committee Act (5 U.S.C. 10), the BIE is announcing the Advisory Board will hold its next meeting in-person and online. The Advisory Board was established under the Individuals with Disabilities Act of 2004 (20 U.S.C. 1400 et seq.) to advise the Secretary of the Interior, through the Assistant Secretary-Indian Affairs, on the needs of Indian children with disabilities. All meetings, including virtual sessions, are open to the public in their entirety.

Meeting Agenda Items

The following agenda items will be for September 25-27, 2024, meetings:

• Campus tour of Cherokee Central Schools.

• BIE Director Office Updates.

• The BIE's Division of Performance and Accountability will provide Special Education updates about the BIE Special Education Policy & Procedures Handbook.

• The Committee will work on and finalize the 2024 Advisory Board Annual Report, wrap-up important decisions, discuss outstanding tasks, and discuss next steps.

• Special Education Updates from the Associate Deputy Director (ADD) Regions: Bureau Operated Schools, Navajo Region and, Tribally Controlled Schools (TCS).

• A Panel Discussion: Early Childhood Transition; and A Panel Discussion: Secondary Transition.

• A Panel Discussion with Transition Specialist (Pre-Kindergarten through grade 12), to include Early Childhood Transition and Secondary Transition.

• The entire afternoon session 12:10-4:00 p.m. MDT, the advisory board will work on identifying priority topics for the annual report, wrap-up important decisions, discuss outstanding tasks, and discuss next steps.

• Public Commenting Sessions will be offered to the general public:

○ Wednesday, September 25, 2024, from 11:45 a.m. to 12 p.m. EDT and 2 p.m. to 2:15 p.m. EDT; Thursday, September 26, 2024, from 11:45 a.m. to 12 p.m. EDT, and 3:45 p.m. to 4 p.m. EDT; and Friday, September 26, 2024, from 11:15 a.m. to 11:30 p.m. EDT.

○ Public comments can be provided verbally via webinar or in writing using the chat box. Public comments can also be emailed to the DFO at Jennifer.Davis@bie.edu; or faxed to (602) 265-0293, Attention: Jennifer Davis, DFO; or mailed or hand delivered to the Bureau of Indian Education, Attention: Jennifer Davis, DFO, 2600 N. Central Ave., 12th Floor, Suite 250, Phoenix, Arizona 85004. Public comments can also be emailed to the DFO at Jennifer.Davis@bie.edu; or faxed to (602) 265-0293 Attention: Jennifer Davis, DFO; or mailed or hand delivered to the Bureau of Indian Education, Attention: Jennifer Davis, DFO, 2600 N. Central Ave., 12th Floor, Suite 250, Phoenix, Arizona 85004.

Accessibility Request

Please make requests in advance for sign language interpreter services, assistive listening devices, language translation services, or other reasonable accommodations. Please contact the person listed in the section FOR FURTHER INFORMATION CONTACT at least seven (7) business days prior to the meeting to give the Department of the Interior sufficient time to process your request. All reasonable accommodation requests are managed on a case-by-case basis.

Individuals in the United States who are deaf, deafblind, hard of hearing, or have a speech disability may dial 711 (TTY, TDD, or TeleBraille) to access telecommunications relay services. Individuals outside the United States should use the relay services offered within their country to make international calls to the point-of-contact in the United States.

Authority: 5 U.S.C. ch. 10.

Bryan Newland,
Assistant Secretary—Indian Affairs.

[FR Doc. 2024-20186 Filed 9-6-24; 8:45 am]

BILLING CODE 4337-15-P